SMALL BUSINESS ADMINISTRATION

[Disaster Declaration #15295; UTAH Disaster Number UT-00051 Declaration of Economic Injury]

Administrative Declaration of an Economic Injury Disaster for the State of Utah

AGENCY: U.S. Small Business Administration.

ACTION: Notice.

SUMMARY: This is a notice of an Economic Injury Disaster Loan (EIDL) declaration for the State of Utah, dated 09/11/2017.

Incident: Brian Head Fire.

Incident Period: 06/17/2017 through 07/11/2017.

DATES: Issued on 09/11/2017.

Economic Injury (EIDL) Loan Application Deadline Date: 06/11/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Garfield, Iron

Contiguous Counties:

Utah: Beaver, Kane, Piute, San Juan, Washington, Wayne

Nevada: Lincoln

The Interest Rates are:

| Percent
Businesses and Small Agricultural Cooperatives without Credit Available Elsewhere | 3.215
Non-Profit Organizations without Credit Available Elsewhere | 2.500

The number assigned to this disaster for economic injury is 152950.

The States which received an EIDL Declaration # are Utah, Nevada.

(Catalog of Federal Domestic Assistance Number 59008)

Linda E. McMahon,
Administrator.

[FR Doc. 2017-20000 Filed 9-19-17; 8:45 am]

BILLING CODE 8025-01-P